DEPARTMENT OF THE TREASURY

Submission for OMB Review; Comment Request

August 17, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before September 24, 2001 to be assured of consideration.

Financial Crimes Enforcement Network (FinCEN)

OMB Number: 1506-0006.

Form Number: TD F 90-22.49.

Type of Review: Extension.

Title: Suspicious Activity Report by Casinos.

Description: Nevada casinos will file Form TD F 90-22.49 after a customer or individual conducts a potentially suspicious transaction or activity, pursuant to Nevada Commission Regulation 6A, Section 100, authorities, during the course of investigations involving financial crimes.

Respondents: Individuals or households, Business or other for-profit.

Estimated Number of Respondents/Recordkeepers: 110.

Estimated Burden Hours Per Respondent/Recordkeeping: 31 minutes.

Frequency of Response: Other (as required).

Estimated Total Reporting/Recordkeeping Burden: 64 hours.

Clearance Officer: Lois K. Holland, Departmental Offices, Room 2110, 1425 New York Avenue, NW., Washington, DC 20220; (202) 622-1563.

OMB Reviewer: Alexander T. Hunt, Office of Management and Budget, Room 10202, New Executive Office Building, Washington, DC 20503; (202) 395-7860.

Lois K. Holland,
Departmental Reports, Management Officer.

[FR Doc. 01-21364 Filed 8-23-01; 8:45 am]

BILLING CODE 4810-31-P